NATIONAL SCIENCE FOUNDATION

Committee Management

Notice of Establishment

The Deputy Director of the National Science Foundation has determined that the establishment of the Earthscope Science and Education Advisory Committee is necessary and in the public interest in connection with the performance of duties imposed upon the National Science Foundation (NSF), by 42 U.S.C. 1861 et seq. This determination follows consultation with the Committee Management Secretariat, General Services Administration.

Name of Committee: EarthScope Science and Education Advisory Committee (#16638)

Purpose: Provide advice and recommendations to the National Science Foundation concerning support for research, education and outreach in the EarthScope program. The committee will: review and advise on the impact of research and facility support programs in the disciplines and fields encompassed by the EarthScope program; advise on program management, overall program balance, diversity and other aspects of program performance; and advise as to the impact of overall NSF-wide policies on the EarthScope facility and community.

Responsible NSF Official: James Whitcomb, Division of Earth Sciences, National Science Foundation, 4201 Wilson Boulevard, Room 995, Arlington, VA 22230. Telephone: (703) 292-8550.

Dated: October 9, 2003.
Susanne Bolton,
Committee Management Officer.

[FR Doc. 03-26094 Filed 10-15-03; 8:45 am]

BILLING CODE 7555-01-M